DEPARTMENT OF DEFENSE

Office of the Secretary

Charter Renewal of Department of Defense Federal Advisory Committees

AGENCY: Department of Defense.

ACTION: Renewal of Federal Advisory Committee.

SUMMARY: The Department of Defense (DoD) is publishing this notice to announce that it is renewing the charter for the Ocean Research Advisory Panel (“the Panel”).

FOR FURTHER INFORMATION CONTACT: Jim Freeman, Advisory Committee Management Officer for the Department of Defense, 703-692-5952.

SUPPLEMENTARY INFORMATION: This committee's charter is being established in accordance with the Federal Advisory Committee Act (FACA) of 1972 (5 U.S.C., Appendix, as amended) and 41 CFR 102-3.50(d). The Panel's charter and contact information for the Panel's Designated Federal Officer (DFO) can be obtained at http://www.facadatabase.gov/. The Panel provides independent scientific advice and recommendations to the National Ocean Research Leadership Council (“the Council”). The Council operates as the National Ocean Council (NOC) as directed by Executive Order 13547. The NOC Deputy-level Committee (“the Committee”) has assumed the statutory responsibilities of the Council. Pursuant to 10 U.S.C. 7903(a), the Panel shall consist of not less than 10 and not more than 18 members, representing the following: (a) One member who will represent the National Academy of Sciences; (b) One member who will represent the National Academy of Engineering; (c) One member who will represent the Institute of Medicine; (d) Members selected from among individuals who will represent the views on ocean industries, State Governments, academia, and such other views as the Chairs of the Committee consider appropriate; (e) Members selected from individuals who are eminent in the fields of marine science, marine policy, or related fields. Members who are not full-time or permanent part-time Federal officers or employees will be appointed as experts or consultants pursuant to 5 U.S.C. 3109 to serve as special government employee members. Members who are full-time or permanent part-time Federal officers or employees will be appointed pursuant to 41 CFR 102-3.130(a) to serve as regular government employee members. All members are appointed to provide advice on behalf of the Government on the basis of their best judgment without representing any particular point of view and in a manner that is free from conflict of interest. Except for reimbursement of official Panel-related travel and per diem, members serve without compensation. The DoD, as necessary and consistent with the Panel's mission and DoD policies and procedures, may establish subcommittees, task forces, or working groups to support the Panel, and all subcommittees must operate under the provisions of FACA and the Government in the Sunshine Act. Subcommittees will not work independently of the Panel and must report all their recommendations and advice solely to the Panel for full deliberation and discussion. Subcommittees, task forces, or working groups have no authority to make decisions and recommendations, verbally or in writing, on behalf of the Panel. No subcommittee or any of its members can update or report, verbally or in writing, directly to the DoD or any Federal officers or employees. The Panel's DFO, pursuant to DoD policy, must be a full-time or permanent part-time DoD employee, and must be in attendance for the duration of each and every Panel/subcommittee meeting. The public or interested organizations may submit written statements to the Panel membership about the Panel's mission and functions. Written statements may be submitted at any time or in response to the stated agenda of planned meeting of the Panel. All written statements shall be submitted to the DFO for the Panel, and this individual will ensure that the written statements are provided to the membership for their consideration.

Dated: April 6, 2016.
Aaron Siegel,
Alternate OSD Federal Register Liaison Officer, Department of Defense.

[FR Doc. 2016-08200 Filed 4-8-16; 8:45 am]

BILLING CODE 5001-06-P